DEPARTMENT OF COMMERCE

International Trade Administration

[A-588-841]

Vector Supercomputers From Japan: Notice of Final Results of Changed Circumstances Review, and Revocation of Antidumping Duty Order

AGENCY: Import Administration, International Trade Administration, Department of Commerce.

ACTION: Notice of final results of changed circumstances review, and revocation of antidumping duty order.

SUMMARY: On March 13, 2001, the Department of Commerce (“the Department”) published a notice of initiation and preliminary results of a changed circumstances review with the intent to revoke the antidumping duty order on certain vector supercomputers from Japan. See Certain Vector Supercomputers From Japan: Notice of Initiation and Preliminary Results of Changed Circumstances Review of the Antidumping Order and Intent to Revoke Order (“Initiation and Preliminary Results”), 66 FR 14547 (March 13, 2001). In our Initiation and Preliminary Results, we gave interested parties an opportunity to comment. No interested party opposed the preliminary results.

Therefore, we are now revoking this order because the domestic producer of the like product has expressed no interest in the continuation of the order.

EFFECTIVE DATE: May 3, 2001.

FOR FURTHER INFORMATION CONTACT: Mark Young or James Terpstra AD/CVD Enforcement, Office VI, Group II, Import Administration, International Trade Administration, U.S. Department of Commerce, 14th Street and Constitution Avenue, NW., Washington, DC 20230; telephone: (202) 482-6397, or (202) 482-3965 respectively.

The Applicable Statute and Regulations

Unless otherwise indicated, all citations to the statute are references to the provisions effective January 1, 1995, the effective date of the amendments made to the Tariff Act of 1930 (“the Act”) by the Uruguay Round Agreements Act. In addition, unless otherwise indicated, all citations to the Department's regulations are to the regulations as codified at 19 CFR part 351 (2000).

SUPPLEMENTARY INFORMATION:

Background

On February 27, 2001, Cray Inc. (“Cray”) requested that the Department conduct a changed circumstances review and revoke the antidumping duty order on vector supercomputers from Japan, retroactive to October 1, 2000. In its February 27, 2001 request, Cray claims that it is the only U.S. producer of vector supercomputers and was the sole petitioner in the antidumping investigation that led to the antidumping order. Further, Cray states that it no longer has an interest in maintaining this order. As noted above, we gave interested parties an opportunity to comment on the Initiation and Preliminary Results. We received no comments from interested parties. On March 26, 2001 we received a submission from Skymoon Ventures (“Skymoon”) in support of revocation of the order. Skymoon identified itself as being part of the “high technology industry.” However, Skymoon produced no evidence that it was an interested party within the meaning of section 771(9)(C) of the Act and 19 CFR 351.102(b). Therefore, we have not considered its comments in these final results.

Scope of Review

The scope of this order consists of all vector supercomputers, whether new or used, and whether in assembled or unassembled form, as well as vector supercomputer spare parts, repair parts, upgrades, and system software, shipped to fulfill the requirements of a contract entered into on or after October 16, 1997, for the sale and, if included, maintenance of a vector supercomputer. A vector supercomputer is any computer with a vector hardware unit as an integral part of its central processing unit boards.

In general, the vector supercomputers imported from Japan, whether assembled or unassembled, covered by this order are classifiable under heading 8471 of the Harmonized Tariff Schedules of the United States (“HTS”). Merchandise properly classified under HTS numbers 8471.10 and 8471.30, however, is excluded from the scope of this order. Although, these references to the HTS are provided for convenience and customs purposes, our written description of the scope of this order is dispositive.

Final Results of Review; Revocation of Antidumping Duty Order

The affirmative statement of no interest by petitioners concerning vector supercomputers, as described herein, constitutes changed circumstances sufficient to warrant revocation of this order. Furthermore, no interested party commented on the Initiation and Preliminary Results. Therefore, the Department is revoking the order on certain vector supercomputers from Japan, in accordance with sections 751(b) and (d) and 782(h) of the Act and 19 CFR 351.216(d) and 351.222(g), effective October 1, 2000.

We will instruct the U.S. Customs Service (“Customs”) to end the suspension of liquidation effective October 1, 2000, and to liquidate without regard to antidumping duties, as applicable, and to refund any estimated antidumping duties collected for all unliquidated entries of certain vector supercomputers meeting the specifications indicated above entered or withdrawn from warehouse for consumption on or after October 1, 2000. We will also instruct Customs to pay interest on such refunds in accordance with section 778 of the Act.

This notice also serves as a reminder to parties subject to administrative protective orders (“APOs”) of their responsibility concerning the disposition of proprietary information disclosed under APO in accordance with 19 CFR 351.306. Timely written notification of the return/destruction of APO materials or conversion to judicial protective order is hereby requested. Failure to comply with the regulations and terms of an APO is a sanctionable violation.

This changed circumstances administrative review, revocation of the antidumping duty order and notice are in accordance with sections 751(b) and (d) and 782(h) of the Act and sections 351.216 and 351.222(g) of the Department's regulations.

Dated: April 27, 2001.
Timothy J. Hauser,
Acting Under Secretary for International Trade.

[FR Doc. 01-11272 Filed 5-1-01; 2:32 pm]

BILLING CODE 3510-DS-P